DEPARTMENT OF ENERGY

Federal Energy Regulatory Commission

[Docket No. EL02-25-000]

Intermountain Rural Electric Association, Complainant, v. Public Service Company of Colorado, Respondent; Notice of Complaint

November 26, 2001.

Take notice that on November 23, 2001, the Intermountain Rural Electric Association (IREA) tendered for filing a “Complaint And Request For Investigation And Refunds” against Public Service Company of Colorado (PSCO). IREA's Complaint alleges that PSCO has included costs in the Fuel Cost Adjustment charge under IREA's Power Purchase Agreement with PSCO, on file with the Commission as PSCO Rate Schedule FERC No. 51, which costs and charges are unjust, unreasonable, and unduly discriminatory, and therefore unlawful under the Federal Power Act. IREA seeks refunds, plus interest, of the alleged unlawful charges it has paid to PSCO and a Commission order requiring PSCO to revise its accounting procedures and power marketing activities or, in the alternative, a Commission investigation and hearing, with the outcome subject to refund.

Copies of the Complaint were served, simultaneous with filing with the Commission, on PSCO, its parent company Exel Energy, Inc., and the Public Utilities Commission of the State of Colorado.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before December 13, 2001. Protests will be considered by the Commission in determining the appropriate action to be taken, but will not serve to make protestants parties to the proceeding. Any person wishing to become a party must file a motion to intervene. Answers to the complaint shall also be due on or before December 13, 2001. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-29722 Filed 11-29-01; 8:45 am]

BILLING CODE 6717-01-P